DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Association of American Railroads

[Docket Number FRA-2005-21325]

The Association of American Railroads (AAR), on behalf of itself and its member railroads, seeks a permanent waiver of compliance from certain provisions of the Railroad Locomotive Safety Standards, 49 CFR Part 229. Specifically, the AAR requests to change the time interval requirements of 49 CFR 229.27 Annual Tests and 49 CFR 229.29 Biennial Tests for all locomotives equipped with 26-L type brake systems and air dryers, by extending the testing interval to four years.

In 1981, FRA granted a test waiver (H-80-7) to eight railroads, permitting them to exceed the annual and biennial testing requirements of § 229.27 and § 229.29, in order to conduct a study of the safe service life and reliability of the locomotive brake components. On January 29, 1985, FRA expanded the waiver to permit all railroads to inspect the 26-L type brake equipment on a triennial basis. In the 1990's, the Canadian Pacific Railroad (CP) and the Canadian National Railroad (CN) petitioned the FRA to allow them to operate locomotives into the United States that received periodic attention every four years. The requests were based on a decision by Transport Canada to institute a four-year inspection program following a thorough test program in Canada. In November 2000, FRA granted conditional waivers to both the CN and CP Railroads, extending the testing interval to four years for Canadian-based locomotives equipped with 26-L type brake systems and air dryers. The waiver also requires all air brake filtering devices be changed annually and the air compressor to be overhauled not less than every six years.

AAR does not see any rational basis for permitting Canadian-based locomotives with 26-L type brakes and air dryers to operate four years between inspections, while subjecting U.S.-based locomotives with the same brake systems and air dryers to a three-year inspection interval. AAR makes this conclusion based on the fact that Transport Canada has permitted this practice without any accident caused by the malfunction of a 26-L type brake system, and because the FRA approved the CN and CP waiver requests in 2000. Accordingly, AAR requests that the inspection interval for all locomotives equipped with 26-L type brake systems and air dryers be extended to four years.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-21325) and must be submitted in triplicate to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on August 8, 2005.
Grady C. Cothen, Jr.,
Deputy Associate Administrator for Safety Standards and Program Development.

[FR Doc. 05-15950 Filed 8-10-05; 8:45 am]

BILLING CODE 4910-06-U